DEPARTMENT OF THE INTERIOR

Bureau of Land Management

[A2407-014-004-065516; #O2412-014-004-047181.1; LLAZ920000; AZAZ106709063]

Public Land Order No. 7964; National Defense Operating Area Withdrawal, Yuma County, AZ

AGENCY: Bureau of Land Management, Interior.

ACTION: Public Land Order (PLO).

SUMMARY: This Order withdraws, subject to valid existing rights, approximately 285 acres of Federal lands from settlement, sale, location, and entry under the general land laws, including the United States mining laws, mineral leasing laws, and geothermal leasing laws, for a period of 3 years for use by the Department of the Navy for border security purposes. This withdrawal also transfers administrative jurisdiction of the lands to the Department of the Navy.

DATES: This PLO takes effect on July 22, 2025.

FOR FURTHER INFORMATION CONTACT: Lucas Lucero, Southwest Border Coordinator, AZ, telephone: 480-268-1387, email: llucero@blm.gov.

Individuals in the United States who are deaf, deafblind, hard of hearing, or have a speech disability may dial 711 (TTY, TDD, or TeleBraille) to access telecommunications relay services for contacting Mr. Lucero. Individuals outside the United States should use the relay services offered within their country to make international calls to the point-of-contact in the United States.

SUPPLEMENTARY INFORMATION:

Order

By virtue of the authority vested in the Secretary of the Interior by section 204 of the Federal Land Policy and Management Act of 1976 (FLPMA), 43 U.S.C. 1714, and in accordance with subsection 204(e) of that Act, it is determined that an emergency situation exists and that extraordinary measures must be taken to preserve values that would otherwise be lost. It is therefore ordered as follows:

1. Subject to valid existing rights, the following described Federal lands are hereby withdrawn from settlement, sale, location, and entry under the general land laws, including the United States mining laws, mineral leasing laws, and geothermal leasing laws, and jurisdiction over such lands is hereby transferred to the Department of the Navy for border security purposes.

Legal Description

A strip of land of the uniform width of 60 feet, lying contiguous to and parallel with the international border between the United States and Mexico, currently subject to Presidential Proclamation No. 758, 35 Stat. 2136 (May 27, 1907), (commonly known as the “Roosevelt Reservation”), located in the County of Yuma, State of Arizona, and situate in the following described locations:

Gila and Salt River Meridian, AZ

T. 16 S., R. 10 W., unsurveyed,

sec. 7;

sec. 18, that portion lying in Yuma County.

T. 15 S., R. 11 W.,

sec. 31, unsurveyed;

sec. 32, unsurveyed.

T. 16 S., R. 11 W., unsurveyed,

secs. 3 thru 6;

secs. 10, 11, and 12.

T. 15 S., R. 12 W., unsurveyed,

sec. 19;

sec. 20;

secs. 26 thru 29;

sec. 35;

sec. 36.

T. 15 S., R. 13 W.,

secs. 7, 8, and 9, unsurveyed;

secs. 14, 15, and 16, unsurveyed;

sec. 23, unsurveyed;

sec. 24, unsurveyed.

T. 14 S., R. 14 W.,

secs. 31, 32, and 33, unsurveyed.

T. 15 S., R. 14 W., unsurveyed,

secs. 1 thru 4;

sec. 12.

T. 14 S., R. 15 W., unsurveyed,

secs. 18 thru 22;

secs. 25, 26, and 27;

sec. 36.

T. 14 S., R. 16 W.,

secs. 6 thru 10, unsurveyed;

secs. 13, 14, and 15, unsurveyed.

The area described above contains approximately 285 acres of Federal lands in Yuma County, derived from GIS data located in the BLM Arizona State Office.

2. This withdrawal will expire 3 years from the effective date of this Order, unless it is extended in accordance with subsections (c)(1) or (d), whichever is applicable, and (b)(1) of section 204 of FLPMA, 43 U.S.C. 1714.

Doug Burgum,
Secretary of the Interior.

[FR Doc. 2025-14005 Filed 7-24-25; 8:45 am]

BILLING CODE 4331-12-P